DEPARTMENT OF TRANSPORTATION

Federal Aviation Administration

14 CFR Part 93

RIN 2120-AK39

Notification of Public Meetings on Requirement for Helicopters To Use the New York North Shore Helicopter Route

AGENCY: Federal Aviation Administration (FAA), DOT.

ACTION: Notification of public meetings.

SUMMARY: The FAA announces three public meetings to solicit feedback concerning the New York North Shore Helicopter Rule (“the Rule”). These meetings are being held pursuant to Section 182 of the FAA Reauthorization Act of 2018. The Rule requires civil helicopter pilots operating under Visual Flight Rules (VFR), whose route of flight takes them over the north shore of Long Island between the Visual Point Lloyd Harbor (VPLYD) waypoint and Orient Point (VPOLT), to use the North Shore Helicopter Route.

DATES: The public meetings will be held on November 13, November 14, and November 15, 2018.

ADDRESSES: The public meetings will be held at the following sites:

November 13, 2018, 7-9 p.m.—Cradle of Aviation Museum, Charles Lindbergh Blvd., Garden City, NY 11530.

November 14, 2018, 7-9 p.m.—Riverhead Middle School, 600 Harrison Avenue, Riverhead, NY 11901.

November 15, 2018, 7-9 p.m.—Vaughn College, 8601 23rd Ave, Flushing, NY 11369.

FOR FURTHER INFORMATION CONTACT: Christopher Bailey, Office of Rulemaking, Federal Aviation Administration; telephone (202) 267-4158; email Christopher.bailey@faa.gov.

SUPPLEMENTARY INFORMATION:

Purpose of the Public Meetings

The purpose of the public meetings is for the FAA to obtain feedback relevant to the Rule at subpart H of part 93, which requires civil helicopter pilots operating under VFR, whose route of flight takes them over the north shore of Long Island between the VPLYD waypoint and VPOLT, to use the North Shore Helicopter Route. The FAA will consider comments made at the public meetings in its review of the Rule.

Public Participation and Meeting Procedures

The meetings will use a workshop format. FAA will have several stations covering a number of relevant aspects of the Rule. Each station will be staffed by a representative of the FAA who is able to answer questions regarding that subject. There will also be a station where the public can submit a written statement or have their oral comment transcribed. No formal presentations will be made.

Section 182 of the FAA Reauthorization Act of 2018 also calls for a written comment period on the North Shore Helicopter Rule. See the document published elsewhere in this issue of the Federal Register, titled Request for Comments on Requirement for Helicopters to Use the New York North Shore Helicopter Route, under docket number FAA-2018-0954, for information regarding submitting written comments on the Rule to the Federal Register.

Sign and oral interpretation can be made available at the meeting, as well as an assistive listening device, if requested 10 calendar days before the meeting. The meetings will be open to all persons on a space-available basis. There will be no admission fee or other charge to attend and participate.

Issued in Washington, DC, on October 30, 2018.
Brandon Roberts,
Deputy Executive Director, Office of Rulemaking.

[FR Doc. 2018-24129 Filed 11-1-18; 8:45 am]

BILLING CODE 4910-13-P